DEPARTMENT OF THE INTERIOR

Fish and Wildlife Service

Endangered and Threatened Species Permit Application

AGENCY: Fish and Wildlife Service, Interior.

ACTION: Request permit amendment.

SUMMARY: The following applicant requests a permit amendment to conduct gray wolf (Canis lupis) take activities throughout Minnesota. This notice is provided pursuant to section 10(c) of the Endangered Species Act (Act) of 1973, as amended (16 U.S.C. 1531, et seq.).

Permit Number TE-697830

Applicant: Assistant Regional Director, Ecological Services, Region 3, U.S. Fish and Wildlife Service, Fort Snelling, Minnesota.

DATES: Written comments must be received by February 11, 2002.

ADDRESSES: Written data or comments should be submitted to the Regional Director, U.S. Fish and Wildlife Service, Ecological Services, 1 Federal Drive, Fort Snelling, Minnesota 55111-4056.

Documents and other information submitted with this application are available for review by any party who submits a written request for a copy of such documents to the following office within 30 days of the date of publication of this notice: Mr. Peter Fasbender, U.S. Fish and Wildlife Service, Ecological Services, 1 Federal Drive, Fort Snelling, Minnesota 55111-4056. Telephone: (612) 713-5343; Fax: (612) 713-5292; e-mail: peter_fasbender@fws.gov.

FOR FURTHER INFORMATION CONTACT: Mr. Peter Fasbender, (612) 713-5343.

SUPPLEMENTARY INFORMATION: The gray wolf is listed as an endangered species throughout the conterminous United States and Mexico, except in Minnesota where it is classified as a threatened species, and in three areas of the western United States where experimental populations have been designated under separate regulations. In areas where the gray wolf is listed as endangered, 50 CFR 17.21(c)(2) allows them to be taken by a person “in defense of his own life or the lives of others.” Furthermore, § 17.21(c)(3)(iv) allows any employee or agent of the Service, any other Federal land management agency, the National Marine Fisheries Service, or a State conservation agency, who is designated by his agency for such purposes to “remove specimens which constitute a demonstrable but nonimmediate threat to human safety, provided that the taking is done in a humane manner; the taking may involve killing or injuring only if it has not been reasonably possible to eliminate such threat by live-capturing and releasing the specimen unharmed, in a remote area.” 50 CFR 17.31 applies the provisions of § 17.21(c)(2) and (c)(3) to threatened wildlife, except in cases where a special rule developed under section 4(d) of the Act applies to a threatened species.

50 CFR 17.40 (d) contains the special rules for wolves in Minnesota and allows designated persons to take gray wolves in Wolf Management Zones 2-5 in response to depredations upon domestic animals. Although all the other provisions of § 17.21(c)(2) and (c)(3), including the provision that allows gray wolves to be taken in defense of human life, are carried over into § 17.40(d), the provision allowing the Service, or its designees, to “remove specimens which constitute a demonstrable but nonimmediate threat to human safety” is absent from this section.

Due to increasing populations of the gray wolf in Minnesota, there are concerns over human and wolf interactions and the potential threat gray wolves pose to human safety. This concern is especially great where wolves increasingly have become habituated to humans, are frequently encountered around residential buildings, have become difficult to scare away, and may have learned to associate humans with the availability of food.

Under the current regulations discussed above there is no clear provision allowing take of a threatened Minnesota wolf that is a demonstrable but nonimmediate threat to human safety. However, the regulations noted above for endangered wildlife specifically allow the taking, by either lethal or non-lethal means, of endangered wolves in all states adjacent to Minnesota if an identical threat to human safety occurs. The Service believes it is reasonable and logical to be able to provide relief in similar situations in Minnesota where wolves are much more numerous than in adjacent states. The gray wolf was reclassified from endangered to threatened in 1978 in Minnesota.

Because current regulations do not provide clear authority to carry out such activities without a permit, the Applicant is pursuing authorization to conduct such take activities via an amendment to the Endangered and Threatened Species Permit issued to the Assistant Regional Director, Ecological Services, Ft. Snelling, Minnesota. The applicant requests an amendment to allow the take (trapping, removing, humanely euthanizing, and/or relocating) of gray wolves throughout Minnesota in accordance with 50 CFR 17.32, if the wolf or wolves are determined to constitute a demonstrable but nonimmediate threat to human safety.

Written data or comments should be submitted to the Regional Director, U.S. Fish and Wildlife Service, Ecological Services, 1 Federal Drive, Fort Snelling, Minnesota 55111-4056, and must be received within 30 days of the date of this publication.

Documents and other information submitted with this application are available for review by any party who submits a written request for a copy of such documents to the following office within 30 days of the date of publication of this notice: Mr. Peter Fasbender, U.S. Fish and Wildlife Service, Ecological Services, 1 Federal Drive, Fort Snelling, Minnesota 55111-4056. Telephone: (612) 713-5343; Fax: (612) 713-5292; e-mail: peter_fasbender@fws.gov.

Dated: December 28, 2001.
Marvin E. Moriarty,
Acting Regional Director, Region 3, Fort Snelling, Minnesota.

[FR Doc. 02-684 Filed 1-10-02; 8:45 am]

BILLING CODE 4310-55-P